DEPARTMENT OF ENERGY

Federal Energy Regulatory Commission

[Docket No. CP07-427-000]

PetroLogistics Natural Gas Storage, LLC; Notice of Intent To Prepare an Environmental Assessment for the Proposed PetroLogistics Gas Storage Project and Request for Comments on Environmental Issues

October 17, 2007.

The staff of the Federal Energy Regulatory Commission (FERC or Commission) will prepare an environmental assessment (EA) that will discuss the environmental impacts of the PetroLogistics Gas Storage Project involving construction and operation of facilities by PetroLogistics Natural Gas Storage, LLC (PetroLogistics) in Iberville Parish, Louisiana.¹ These facilities would consist of one injection/withdrawal storage well, various diameter gas header, intereconnect, and lateral pipelines totaling 13.73 miles, one new 20,000 horsepower (hp) electric compressor station, five meter stations and two mainline valves. This EA will be used by the Commission in its decision-making process to determine whether the project is in the public convenience and necessity.

¹ PetroLogistics's application was filed with the Commission under section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice PetroLogistics provided to landowners. This fact sheet addresses a number of typically asked questions, including the use of eminent domain and how to participate in the Commission's proceedings. It is available for viewing on the FERC Internet Web site (http://www.ferc.gov).

Summary of the Proposed Project

PetroLogistics proposes to build and operate a high-deliverability, multi-cycle natural gas storage facility and appurtenant facilities in an existing brine cavern in the Choctaw Salt Dome located 4 miles northwest of the city of Plaquemine, Louisiana. The project would use one cavern within the Choctaw Salt Dome which currently is the site of up to nine caverns used as part of the U.S. Strategic Petroleum Reserve operated by the U.S. Department of Energy. This project would provide a working gas capacity of approximately 9 billion cubic feet and maximum daily injection and withdrawal capabilities of up to 150 to 300 million cubic feet per day.

PetroLogistics seeks authority to construct and operate:

• One 20,000 hp electric compressor station on a 2 acre site;

• One 350-foot-long 24-inch-diameter interconnect pipeline;

• 7.3 miles of 24-inch-diameter natural gas header pipeline connecting the compressor station and the Florida Gas Transmission Company (FGT), CrossTex LIG Pipeline Company (Crosstex)/Bridgeline Pipeline System (Bridgeline) and Texas Eastern Transmission Company (TETCO) interconnects;

• 5.83 miles of 16-inch-diameter interconnect pipeline from the Bridgeline/CrossTex tie-in to the Southern Natural Gas Company (SONAT) pipeline interconnect;

• A 0.60-mile-long TETCO lateral from the TETCO Lateral Meter Station; five meter stations/interconnects (FGT, Bridgeline, Crosstex, TETCO and SONAT Meter Stations);

• And two mainline valves.

PetroLogistics requests certification by December 31, 2007.

The location of the project facilities is shown in Appendix 1.²

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of the proposed facilities would require disturbance of 137 acres of land, including 47 acres under existing permanent easement, 40 acres to be added as new permanent easement or ownership, and 53 acres as temporary construction right-of-way that would be restored to previous land use following construction. PetroLogistics would use a 75-foot-wide construction right-of-way width 40-foot-wide operational right-of-way for the installed pipelines.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ ”We”, “us”, and “our” refer to the environmental staff of the Office of Energy Projects (OEP).

• Geology and soils;

• Water resources;

• Wetlands and fisheries;

• Vegetation and wildlife;

• Threatened and endangered species;

• Land use;

• Cultural resources;

• Air quality and noise;

• Reliability and safety; and

• Cumulative impacts.

We will also evaluate reasonable alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by PetroLogistics. This preliminary list of issues may be changed based on your comments and our analysis.

• Horizontal directional drill crossing of eight perennial waterways, including Wilbert's Canal, Bayou Jacob, Bayou Plaquemine, Bayou Tigre, and other unnamed canals;

• Impact of 15 acres of emergent wetlands, 17 acres of forested wetlands, and 66 acres of agricultural land;

• Potential clearing of cypress and tupelo trees;

• Potential impacts to a crawfish farm;

• Visual impacts of one reworked injection/withdrawal well;

• Compressor station operational noise impacts for residences located northeast of the site; and

• Adjacent to crude oil storage caverns operated as part of the U.S. Strategic Petroleum Preserve.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Kimberly D. Bose, Secretary, Federal Energy Regulatory Commission, 888 First St., NE., Room 1A, Washington, DC 20426.

• Label one copy of the comments for the attention of Gas 2.

• Reference Docket No. CP07-427-000.

• Mail your comments so that they will be received in Washington, DC on or before November 15, 2007.

The Commission strongly encourages electronic filing of any comments or interventions or protests to this proceeding. See 18 CFR 385.2001(a)(1)(iii) and the instructions on the Commission's Web site at http://www.ferc.gov under the “e-Filing” link and the link to the User's Guide. Before you can file comments you will need to create a free account which can be created online.

We may mail the EA for comment. If you are interested in receiving it, please return the Information Request (Appendix 3). If you do not return the Information Request, you will be taken off the mailing list.

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with email addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

Additional Information

Additional information about the project is available from the Commission's Office of External Affairs, at 1-866-208 FERC (3372) or on the FERC Internet Web site (http://www.ferc.gov) using the eLibrary link. Click on the eLibrary link, click on “General Search” and enter the docket number excluding the last three digits (i.e., enter PF06-398) in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E7-20897 Filed 10-23-07; 8:45 am]

BILLING CODE 6717-01-P